DEPARTMENT OF ENERGY

Federal Energy Regulatory Commission

Combined Notice of Filings

Take notice that the Commission has received the following Natural Gas Pipeline Rate and Refund Report filings and Accounting Request filings:

Filings Instituting Proceedings

Docket Numbers: AC26-24-000.

Applicants: Entergy New Orleans, LLC.

Description: Entergy New Orleans, LLC submits proposed post-transaction accounting entries to clear Account 102 re sale of its gas distribution business to Delta New Orleans Gas Company, LLC.

Filed Date: 1/30/26.

Accession Number: 20260130-5423.

Comment Date: 5 p.m. ET 2/20/26.

Docket Numbers: RP26-472-000.

Applicants: Northern Natural Gas Company.

Description: § 4(d) Rate Filing: 20260206 Negotiated Rate Filing to be effective 2/7/2026.

Filed Date: 2/6/26.

Accession Number: 20260206-5107.

Comment Date: 5 p.m. ET 2/18/26.

Docket Numbers: RP26-473-000.

Applicants: Iroquois Gas Transmission System, L.P.

Description: § 4(d) Rate Filing: 2.9.26 Negotiated Rates—Trafigura Trading LLC H-8150-89 to be effective 2/7/2026.

Filed Date: 2/9/26.

Accession Number: 20260209-5028.

Comment Date: 5 p.m. ET 2/23/26.

Docket Numbers: RP26-474-000.

Applicants: Kinder Morgan Illinois Pipeline LLC.

Description: Compliance filing: Penalty Revenue Annual Report for 2025 to be effective N/A.

Filed Date: 2/9/26.

Accession Number: 20260209-5052.

Comment Date: 5 p.m. ET 2/23/26.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, the public is encouraged to contact OPP at (202) 502-6595 or OPP@ferc.gov.

Dated: February 9, 2026.
Carlos D. Clay,
Deputy Secretary.

[FR Doc. 2026-02849 Filed 2-11-26; 8:45 am]

BILLING CODE 6717-01-P